FEDERAL COMMUNICATIONS COMMISSION

[OMB 3060-XXXX; FR ID 128022]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before April 24, 2023. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION:

OMB Control Number: 3060-XXXX.

Title: Freedom of Information/Privacy Act Request.

Form Number: N/A.

Type of Review: New information collection.

Respondents: Individuals or Households, Business or other for-profit, and Not-for-profit institutions, Federal Government, State, Local or Tribal Government.

Number of Respondents and Responses: 770 respondents; 770 responses.

Estimated Time per Response: 0.08 hours.

Frequency of Response: On occasion reporting requirement.

Obligation to Respond: Voluntary. The statutory authority for this collection of information is contained in 5 U.S.C. 552 and 552a.

Total Annual Burden: 62 hours.

Total Annual Cost: $5,124.00.

Privacy Act Impact Assessment: Yes. The online form is used to collect information necessary to process a proper FOIA/Privacy Act (PA) request relating to a subject matter provided by the requester. This form includes a link to a Privacy Act Statement which outlines the statutory authority for the information collection, the purpose of the collection, and the routine uses under which the information may be disclosed outside of the FCC, as described in the FCC System of Records Notice, FCC/OMD-17—Freedom of Information Act (FOIA) and Privacy Act Requests.

Nature and Extent of Confidentiality: FOIA confidential and proprietary information is protected in accordance with FCC regulations at 47 CFR 0.457(d). When a request for confidential or proprietary information is submitted, it is handled in accordance with 47 CFR 0.457(d).

Privacy Act requests are made available only to the individual who is the subject of the record, who has provided proof or affirmation of identity, and is not made publicly available.

A description of how this information is collected, maintained, and disclosed is provided in the FCC System of Records Notice, FCC/OMD-17—Freedom of Information Act (FOIA) and Privacy Act Requests and in the Privacy Act Statement linked in the online form.

Needs and Uses: The online form is used to collect information necessary to process a proper FOIA request relating to a subject matter provided by the requester. Freedom of Information Act, 5 U.S.C. 552, details what makes a proper FOIA request. A proper request must include: (1) a reasonable description of the record and (2) is made in accordance with published agency rules stating time, place, fees (if any) and procedures to be followed.

Respondents can request records at any time. The request must describe each requested record in sufficient detail to enable the FCC staff to locate the record. The online form is used to collect requester's information (address, contact information, etc.) and a detailed description of the records sought. The FOIA requester is asked to provide information that would assist the FCC in locating responsive records (if they exist). This information is essential to the accurate search and retrieval of records responsive to FOIA/PA requests. Additionally, the requester may include information, if applicable, about fee categories, fee waivers, and expedited processing.

This form will enhance the quality, utility, and clarity of the information to be collected; and minimize the burden of the collection of information on those responding.

Federal Communications Commission.
Marlene Dortch,
Secretary, Office of the Secretary.

[FR Doc. 2023-03760 Filed 2-22-23; 8:45 am]

BILLING CODE 6712-01-P